DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground ‸Elevation in meters (MSL) modified | Communities affected
Lamar County, Alabama, and Incorporated Areas
Docket No.: FEMA-B-1041
Driver Creek | Approximately 3,318 feet upstream of the confluence with Luxapallila Creek | +261 | Unincorporated Areas of Lamar County.
| Approximately 3,810 feet upstream of the confluence with Luxapallila Creek | +265
* National Geodetic Vertical Datum.
+ North American Vertical Datum.
# Depth in feet above ground.
‸ Mean Sea Level, rounded to the nearest 0.1 meter.
ADDRESSES
Unincorporated Areas of Lamar County
Maps are available for inspection at 44690 Highway 17, Vernon, AL 35592.
Madison County, Florida, and Incorporated Areas
Docket No.: FEMA-B-1017
Norton Creek | Approximately 2.1 miles upstream of the confluence with the Withlacoochee River | +69 | Town of Lee, Unincorporated Areas of Madison County.
| Approximately 0.1 mile upstream of County Road 53 | +91
* National Geodetic Vertical Datum.
+ North American Vertical Datum.
# Depth in feet above ground.
‸ Mean Sea Level, rounded to the nearest 0.1 meter.
ADDRESSES
Town of Lee
Maps are available for inspection at the Town Hall, 286 Northeast County Road 255, Lee, FL 32059.
Unincorporated Areas of Madison County
Maps are available for inspection at the Madison County Annex Building, 229 Southwest Pinckney Street, Suite 219, Madison, FL 32340.
Jackson County, Michigan (All Jurisdictions)
Docket No.: FEMA-B-1007
Grand River | At the downstream side of Maple Grove Road | +909 | Township of Rives.
| Approximately 0.5 mile upstream of Maple Grove Road | +910
Grand River | At the upstream side of High Street | +935 | City of Jackson, Township of Leoni, Township of Napoleon, Township of Summit.
| Approximately 1,400 feet upstream of Porbert Road | +942
North Branch Grand River | At the confluence with the Grand River | +935 | Township of Leoni.
| At the downstream side of 5th Street | +936
North Branch Kalamazoo River | Approximately 0.6 mile upstream of North Main Street | +988 | Township of Concord.
| Approximately 1 mile upstream of North Main Street | +988
Vineyard Lake | Entire shoreline | +970 | Township of Norvell, Township of Columbia.
* National Geodetic Vertical Datum.
+ North American Vertical Datum.
# Depth in feet above ground.
‸ Mean Sea Level, rounded to the nearest 0.1 meter.
ADDRESSES
City of Jackson
Maps are available for inspection at 161 West Michigan Avenue, Jackson, MI 49201.
Township of Columbia
Maps are available for inspection at 8500 Jefferson Road, Brooklyn, MI 49230.
Township of Concord
Maps are available for inspection at 402 South Main Street, Concord, MI 49237.
Township of Leoni
Maps are available for inspection at 913 5th Street, Michigan Center, MI 49254.
Township of Napoleon
Maps are available for inspection at 6755 Brooklyn Road, Napoleon, MI 49261.
Township of Norvell
Maps are available for inspection at 106 East Commercial Street, Norvell, MI 49263.
Township of Rives
Maps are available for inspection at 106 Main Street, Jackson, MI 49201.
Township of Summit
Maps are available for inspection at 2121 Ferguson Road, Jackson, MI 49201.
St. Clair County, Michigan (All Jurisdictions)
Docket No.: FEMA-B-1016
Beaubien Creek | At the confluence with Lake St. Clair | +579 | Township of Clay, Township of Cottrellville, Township of Ira.
| At the upstream side of Mayer Road | +579
Belle River | At the confluence with the St. Clair River | +581 | City of Marine City, City of Marysville.
| Approximately 475 feet upstream of Broadway Street | +581
Belle River | At the upstream side of Bordman Road | +699 | Township of Riley.
| Approximately 550 feet upstream of Bordman Road | +701
Black River | At the confluence with the St. Clair River | +583 | City of Port Huron.
| At the upstream side of 7th Street | +583
Lake Huron | Entire shoreline | +584 | Township of Burtchville.
Lake St. Clair | Entire shoreline | +579 | Township of Clay, Township of Ira.
Lester Bammel Drain | At the confluence with the St. Clair River | +581 | Township of Cottrellville.
| Approximately 175 feet downstream of Paradise Boulevard | +581
Marine City Drain | At the confluence with the St. Clair River | +580 | Township of Clay, City of Algonac.
| At the boundary with Algonac State Park | +580
Meldrum Creek | At the confluence with Swan Creek | +579 | Township of Ira.
| Approximately 1,500 feet upstream of the confluence with Swan Creek | +579
Middle Channel St. Clair River | At the confluence with Lake St. Clair | +579 | Township of Clay.
| At the diversion from North Channel St. Clair River | +579
North Channel St. Clair River | At the confluence with Lake St. Clair | +579 | Township of Clay, City of Algonac.
| At the diversion from South Channel St. Clair River | +580
Pine River | At the confluence with the St. Clair River | +582 | City of St. Clair.
| Approximately 0.3 mile upstream of South Riverside Avenue | +582
Robbins Drain | At the confluence with the St. Clair River | +580 | Township of Cottrellville.
| Approximately 500 feet downstream of Nautical Lane | +580
Robbins Drain Outlet | At the confluence with the St. Clair River | +581 | Township of Cottrellville.
| At the confluence with Robbins Drain | +581
South Channel/St. Clair River | At the confluence with Lake St. Clair | +579 | City of Algonac, City of Marine City, City of Marysville, City of Port Huron, City of St. Clair, Township of Clay, Township of Cottrellville, Township of East China, Township of St. Clair.
| At Dunn Paper Gage | +584
Swan Creek | At the confluence with Lake St. Clair | +579 | Township of Casco, Township of Ira.
| At the downstream side of Arnold Road | +590
| At the downstream side of Marine City Highway | +603
| At the upstream side of Marine City Highway | +603
* National Geodetic Vertical Datum.
+ North American Vertical Datum.
# Depth in feet above ground.
‸ Mean Sea Level, rounded to the nearest 0.1 meter.
ADDRESSES
City of Algonac
Maps are available for inspection at 805 St. Clair Drive, Algonac, MI 48001.
City of Marine City
Maps are available for inspection at 303 South Water Street, Marine City, MI 48039.
City of Marysville
Maps are available for inspection at 1111 Delaware Avenue, Marysville, MI 48040.
City of Port Huron
Maps are available for inspection at 100 McMorran Boulevard, Port Huron, MI 48060.
City of St. Clair
Maps are available for inspection at 547 North Carney Drive, St. Clair, MI 48079.
Township of Burtchville
Maps are available for inspection at 4000 Burtch Road, Lakeport, MI 48059.
Township of Casco
Maps are available for inspection at 4512 Meldrum Road, Casco, MI 48064.
Township of Clay
Maps are available for inspection at 4710 Pointe Tremble Road, Algonac, MI 48001.
Township of Cottrellville
Maps are available for inspection at 7008 Marsh Road, Cottrellville, MI 48039.
Township of East China
Maps are available for inspection at 5111 River Road, East China, MI 48054.
Township of Ira
Maps are available for inspection at 7085 Meldrum Road, Fair Haven, MI 48023.
Township of Riley
Maps are available for inspection at 13042 Belle River Road, Riley, MI 48041.
Township of St. Clair
Maps are available for inspection at 1539 South Bartlett Road, St. Clair, MI 48079.
McDonald County, Missouri, and Incorporated Areas
Docket No.: FEMA-B-1043
Beaver Branch | Just downstream of Main Street | +884 | City of Anderson, Unincorporated Areas of McDonald County.
| Approximately 1.14 mile upstream of Sellers Street | +931
Indian Creek | Approximately 1.15 mile downstream of the confluence with Wild Creek | +868 | City of Anderson, Unincorporated Areas of McDonald County.
| Approximately 2.79 miles upstream of U.S. Route 71 | +923
Sugar Tree Branch | Just downstream of East Street | +888 | City of Anderson, Unincorporated Areas of McDonald County.
| Approximately 1,785 feet upstream of Missouri Route F | +948
Wild Creek | Approximately 700 feet downstream of Missouri Route 59 | +878 | City of Anderson, Unincorporated Areas of McDonald County.
| Approximately 410 feet upstream of Missouri Route 76 | +1002
* National Geodetic Vertical Datum.
+ North American Vertical Datum.
# Depth in feet above ground.
‸ Mean Sea Level, rounded to the nearest 0.1 meter.
ADDRESSES
City of Anderson
Maps are available for inspection at 201 West Beaver Street, Anderson, MO 64831.
Unincorporated Aeas of McDonald County
Maps are available for inspection at 602 Main Street, Pineville, MO 64856.
Douglas County, Nebraska, and Incorporated Areas
Docket No.: FEMA-B-7759
Hell Creek | Approximately 50 feet upstream of Harrison Street | +1052 | Village of Boystown, City of Omaha.
| At I Street | +1098
| Just upstream of Pacific Street | +1166
North Branch West Papillion Creek | Approximately 250 feet upstream of Blondo Street | +1117 | Unincorporated Areas of Douglas County, City of Omaha
| At Ida Street | +1165
| At North 186th Street | +1191
West Papillion Creek | Approximately 1,200 feet upstream of I-80 | +1045 | City of Omaha.
| At U.S. Route 6 (West Dodge Road) | +1106
| At Nebraska Highway 64 (West Maple Road) | +1182
* National Geodetic Vertical Datum.
+ North American Vertical Datum.
# Depth in feet above ground.
‸ Mean Sea Level, rounded to the nearest 0.1 meter.
ADDRESSES
City of Omaha
Maps are available for inspection at City Hall, 1819 Farnam Street, Omaha, NE 68183.
Unincorporated Areas of Douglas County
Maps are available for inspection at the Douglas County Courthouse, 3015 Menke Circle, Omaha, NE 68134.
Village of Boystown
Maps are available for inspection at Village of Boys Town, 14100 Crawford Street, Boys Town, NE 68010.
Sarpy County, Nebraska, and Incorporated Areas
Docket No.: FEMA-B-7759
Hell Creek | Approximately 100 feet downstream of Burlington Northern Santa Fe Railroad | +1038 | City of La Vista.
| Approximately 150 feet upstream of Burlington Northern Santa Fe Railroad | +1039
| Approximately 50 feet downstream of Harrison Street | +1049
Midland Creek | Approximately 700 feet downstream of Cedarville Drive | +1011 | City of Papillion, Unincorporated Areas of Sarpy County.
| Approximately 450 feet downstream of Nebraska Highway 370 | +1018
South Papillion Creek | Approximately 300 feet upstream of Giles Street | +1036 | City of Papillion, City of La Vista.
| At South 168th Street | +1100
| Approximately 300 feet upstream of South 204th Street | +1177
Unnamed Tributary of South Papillion Creek | Approximately 1,000 feet upstream of the confluence with South Papillion Creek | +1042 | Unincorporated Areas of Sarpy County, City of La Vista, City of Papillion.
| At Cornhuskers Road | +1056
| At Nebraska Highway 370 | +1104
Walnut Creek | At West Lincoln Street | +1023 | City of Papillion.
| Approximately 150 feet upstream of Nebraska Highway 370 | +1043
West Papillion Creek (with levees) | Just downstream of South 48th Street | +999 | City of Bellevue, City of La Vista, City of Papillion.
| Just upstream of South 66th Street | +1007
| At I-80 | +1043
West Papillion Creek (without left levee) | Just downstream of South 48th Street | +999 | City of Bellevue, City of La Vista, City of Papillion.
| Just upstream of South 66th Street | +1008
| Just upstream of Washington Street | +1015
West Papillion Creek (without right levee) | Just downstream of South 48th Street | +999 | City of Bellevue, City of La Vista, City of Papillion.
| Just upstream of South 66th Street | +1008
| Just upstream of Washington Street | +1014
* National Geodetic Vertical Datum.
+ North American Vertical Datum.
# Depth in feet above ground.
‸ Mean Sea Level, rounded to the nearest 0.1 meter.
ADDRESSES
City of Bellevue
Maps are available for inspection at 210 West Mission Avenue, Bellevue, NE 68005.
City of La Vista
Maps are available for inspection at 8116 Park View Boulevard, La Vista, NE 68128.
City of Papillion
Maps are available for inspection at 122 East 3rd Street, Papillion, NE 68046.
Unincorporated Areas of Sarpy County
Maps are available for inspection at the Sarpy County Courthouse, 1210 Golden Gate Drive, Papillion, NE 68046
Clinton County, Ohio, and Incorporated
Areas Docket No.: FEMA-B-1022
Lytle Creek | Approximately 500 feet upstream of railroad | +1007 | City of Wilmington.
| Approximately 20 feet upstream of 4C Bicentennial Trail | +1020
Lytle Creek | Approximately 1,700 feet downstream of Nelson Avenue | +966 | Unincorporated Areas of Clinton County.
| Approximately 1,000 feet downstream of Nelson Avenue | +971
| Approximately 20 feet upstream of 4C Bicentennial Trail | +1020
| Approximately 800 feet upstream of 4C Bicentennial Trail | +1021
Mary's Fork | Just upstream of CSX Conrail | +1043 | Unincorporated Areas of Clinton County.
| Just downstream of Howard Street | +1046
Stonelick Creek | Approximately 1,600 feet downstream of State Highway 123 | +956 | Unincorporated Areas of Clinton County.
| Approximately 1,200 feet downstream of State Highway 123 | +957
Stonelick Creek | Approximately 3,400 feet downstream of Westboro Road | +971 | Village of Blanchester.
| Approximately 2,000 feet downstream of Westboro Road | +974
| Approximately 1,800 feet downstream of Westboro Road | +974
| Approximately 1,700 feet downstream of Westboro Road | +975
Wilson Creek | Approximately 1,800 feet downstream of Polk Road | +1036 | Unincorporated Areas of Clinton County.
| Approximately 1,200 feet upstream of Polk Road | +1039
* National Geodetic Vertical Datum.
+ North American Vertical Datum.
# Depth in feet above ground.
‸ Mean Sea Level, rounded to the nearest 0.1 meter.
ADDRESSES
City of Wilmington
Maps are available for inspection at 69 North South Street, Wilmington, OH 45177.
Unincorporated Areas of Clinton County
Maps are available for inspection at 1326 Fife Avenue, Wilmington, OH 45177.
Village of Blanchester
Maps are available for inspection at 318 East Main Street, Blanchester, OH 45107.
Buffalo County, Wisconsin, and Incorporated Areas
Docket No.: FEMA-B-1013
Buffalo River | Approximately 7,700 feet downstream of the Eau Claire Street bridge | +777 | Unincorporated Areas of Buffalo County.
| Approximately 7,000 feet downstream of the Eau Claire Street bridge | +777
Mississippi River | Approximately 4.8 miles downstream of State Highway 54 | +657 | City of Alma, City of Buffalo, City of Fountain City, Unincorporated Areas of Buffalo County, Village of Cochrane, Village of Nelson.
| Approximately 2.1 miles upstream of State Highway 25 | +680
Peeso Creek | Approximately 3,400 feet upstream of the Washington Street Bridge | +822 | Unincorporated Areas of Buffalo County.
| Approximately 4,200 feet upstream of the Washington Street Bridge | +825
* National Geodetic Vertical Datum.
+ North American Vertical Datum.
# Depth in feet above ground.
‸ Mean Sea Level, rounded to the nearest 0.1 meter.
ADDRESSES
City of Alma
Maps are available for inspection at City Hall, 314 North Main Street, Alma, WI 54610.
City of Buffalo
Maps are available for inspection at the Municipal Building, 245 East 10th Street, Buffalo City, WI 54622.
City of Fountain City
Maps are available for inspection at City Hall, 42 North Main Street, Fountain City, WI 54629.
Unincorporated Areas of Buffalo County
Maps are available for inspection at the Buffalo County Courthouse, 407 South 2nd Street, Alma, WI 54610.
Village of Cochrane
Maps are available for inspection at the Village Hall, 102 East 5th Street, Cochrane, WI 54622.
Village of Nelson
Maps are available for inspection at the Village Hall, 105 South Main Street, Nelson, WI 54756.

(Catalog of Federal Domestic Assistance No. 97.022, “Flood Insurance.”)

Dated: April 23, 2010.
Sandra K. Knight,
Deputy Federal Insurance and Mitigation Administrator, Mitigation, Department of Homeland Security, Federal Emergency Management Agency.

[FR Doc. 2010-10053 Filed 4-29-10; 8:45 am]

BILLING CODE 9110-12-P